UNITED STATES INSTITUTE of PEACE

Sunshine Act Meeting

AGENCY: United States Institute of Peace

DATE/TIME: Thursday—June 21, 2001 (4 p.m.-9 p.m.) Friday—June 22, 2001 (9 a.m.-6 p.m.) Saturday—June 23, 2001 (9 a.m.-12 noon)

LOCATION: Westfields Marriott Conference Center Chantilly, Virginia

STATUS: Open Session—Portions may be closed pursuant to Subsection (c) of Section 552(b) of Title 5, United States Code, as provided in subsection 1706(h)(3) of the United States Institute of Peace Act, Public Law 98-525.

AGENDA: June 2001 Board Meeting; Approval of Minutes of the Ninety-Ninth Meeting (March 22, 2001) of the Board of Directors; Chairman's Report; President's Report; Review and Discussion of Individual Grants and Fellowships; Review Essay Finalists and Select Winners; Committee Reports; Discuss Research & Studies project Reports; Review Fellowship Program; Report on Peace Scholars; Update on Training Program; Update on Education Program; Other General Issues

CONTACT: Dr. Sheryl Brown, Director, Officer of Communications, Telephone: (202) 457-1700.

Dated: June 4, 2001.
Charles E. Nelson,
Vice President for Management and Finance United States Institute of Peace.

[FR Doc. 01-14569 Filed 6-6-01; 10:20 am]

BILLING CODE 6820-AR-M